DEPARTMENT OF TRANSPORTATION

Federal Aviation Administration

14 CFR Part 39

[Docket No. FAA-2008-0040; Directorate Identifier 2007-SW-13-AD]

RIN 2120-AA64

Airworthiness Directives; Bell Helicopter Textron Canada (BHTC) Models 206A, 206B, 206L, 206L-1, 206L-3, and 206L-4 Helicopters

AGENCY: Federal Aviation Administration (FAA), DOT.

ACTION: Notice of proposed rulemaking (NPRM).

SUMMARY: We propose to adopt a new airworthiness directive (AD) for the specified BHTC model helicopters. This proposed AD results from mandatory continuing airworthiness information (MCAI) originated by an aviation authority of another country to identify and correct an unsafe condition on an aviation product. The aviation authority of Canada, with which we have a bilateral agreement, states in the MCAI:

It has been determined that some helicopters have been fitted with a CRES steel fitting, part number (P/N) 407-030-750-103, and the installation of the tailboom attachment bolt does not meet the design criteria.

The proposed AD would require actions that are intended to address the unsafe condition that results from an improper installation of the tailboom attachment bolt in the upper left-hand tailboom attachment CRES steel fitting.

DATES: We must receive comments on this proposed AD by February 22, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272.

Examining the AD Docket

You may examine the AD docket on the Internet at http://www.regulations.gov; or in person at the Docket Operations office between 9 a.m. and 5 p.m., Monday through Friday, except Federal holidays. The AD docket contains this proposed AD, the economic evaluation, any comments received, and other information. The street address for the Docket Office (telephone (800) 647-5527) is in the ADDRESSES section. Comments will be available in the AD docket shortly after receipt.

FOR FURTHER INFORMATION CONTACT: Sharon Miles, Aviation Safety Engineer, FAA, Rotorcraft Directorate, Regulations and Policy Group, Fort Worth, Texas 76193-0111, telephone (817) 222-5122, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2008-0040; Directorate Identifier 2007-SW-13-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada, which is the aviation authority for Canada, has issued an MCAI in the form of Canadian Airworthiness Directive CF-2007-01, dated January 19, 2007 (referred to after this as “the MCAI”), to correct an unsafe condition for the Canadian-certificated products. The MCAI states:

It has been determined that some helicopters have been fitted with a CRES steel fitting, part number (P/N) 407-030-750-103, and the installation of the tailboom attachment bolt does not meet the design criteria.

You may obtain further information by examining the MCAI and service information in the AD docket.

Relevant Service Information

Bell Helicopter Textron has issued Alert Service Bulletin Nos. 206-06-110 and 206L-06-140, both dated September 7, 2006. The actions described in the MCAI are intended to correct the same unsafe condition as that identified in the service information.

FAA's Determination and Requirements of This Proposed AD

This product has been approved by the aviation authority of Canada and is approved for operation in the United States. Pursuant to our bilateral agreement with this State of Design Authority, we have been notified of the unsafe condition described in the MCAI and the service information. We are proposing this AD because we evaluated all pertinent information and determined an unsafe condition exists and is likely to exist or develop on other products of these same type designs.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in the “Differences Between the FAA AD and the MCAI” section in the proposed AD.

Costs of Compliance

We estimate that this proposed AD would affect about 2,206 helicopters (1,471 Model 206A and 206B helicopters and 735 Model 206L helicopters) of U.S. registry. We also estimate that it would take about .5 work-hour per helicopter to determine if a tailboom attachment bolt must be replaced and, if so, 1 additional work hour to replace the tailboom attachment bolt. The average labor rate is $80 per work-hour. Required parts would cost about $133 for Model 206L series helicopters, and $71 for Model 206A and B series helicopters. Based on these figures, we estimate the cost of the proposed AD on U.S. operators to be $466,916, or $253 for each Model 206L series helicopter and $191 for each Model 206 A and B series helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bell Helicopter Textron Canada: Docket No. FAA-2008-0040; Directorate Identifier 2007-SW-13-AD.

Comments Due Date

(a) We must receive comments by February 22, 2008.

Other Affected ADs

(b) None.

Applicability

(c) This AD applies to Model 206A, 206B, 206L, 206L-1, 206L-3, and 206L-4 helicopters, with an upper left-hand tailboom attachment CRES steel fitting, part number (P/N) 407-030-750-103, installed, certificated in any category.

Reason

(d) The mandatory continuing airworthiness information (MCAI) states:

It has been determined that some helicopters have been fitted with a CRES steel fitting, part number (P/N) 407-030-750-103, and the installation of the tailboom attachment bolt does not meet the design criteria.

We have determined that an improper installation of the tailboom attachment bolt in the upper left-hand tailboom attachment CRES steel fitting, P/N 407-030-750-103, creates an unsafe condition.

Actions and Compliance

(e) Within the next 50 hours time-in-service (TIS), unless already done, do the following:

(1) For those helicopters with an upper left-hand CRES tailboom attachment fitting, P/N 407-030-750-103, determine if the correct number and type of washers are installed, the tailboom attachment bolt is oriented in the correct direction, and the correct number of bolt threads are exposed in accordance with the NOTES on Figure 1 of the applicable Alert Service Bulletin (ASB) in the following Table I.

Table I
Model | ASB No. and date
206A, 206B | 206-06-110, dated September 7, 2006.
206L, L-1, L-3, L-4 | 206L-06-140, dated September 7, 2006.

(i) If the correct number and type of washers are installed, the tailboom attachment bolt is oriented in the correct direction, and the correct number of tailboom attachment bolt threads is exposed, do a torque check of the nut.

(A) If the torque is below the minimum required amount, replace the tailboom attachment bolt in accordance with the Accomplishment Instructions, Part II, step 1 of the applicable ASB listed in Table I of this AD.

(B) If the torque is above the maximum amount, adjust the torque to within the allowable range.

(ii) If an incorrect number or type of washer is installed or the tailboom attachment bolt is oriented in the wrong direction, reconfigure as necessary to meet the requirements of the Notes on Figure 1 of the applicable ASB listed in Table I of this AD.

(iii) If there is less than 1 tailboom attachment bolt thread exposed, adjust the number of washers and retorque the nut so that between 1 and 3 tailboom attachment bolt threads are exposed at the proper nut torque.

(iv) If more than 3 tailboom attachment bolt threads are exposed, replace the attachment bolt in accordance with the Accomplishment Instructions, Part II, step 1 of the applicable ASB listed in Table 1 of this AD.

(2) If a tailboom attachment bolt must be replaced based on a requirement of this AD, at 100 hours TIS after the tailboom attachment bolt is replaced, do a torque check of the nut.

Differences Between the FAA AD and the MCAI

(f) None.

Subject

(g) Air Transport Association of America (ATA) Code 5340, Fuselage Main, Attach Fittings.

Other Information

(h) The following provisions also apply to this AD:

(1) Alternative Methods of Compliance (AMOCs): The Manager, Safety Management Group, Rotorcraft Directorate, FAA, has the authority to approve AMOCs for this AD, if requested using the procedures found in 14 CFR 39.19. Send information to ATTN: Sharon Miles, Aerospace Engineer; Fort Worth, Texas 76193-0111, telephone (817) 222-5122, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI Transport Canada Airworthiness Directive CF-2007-01, dated January 19, 2007, contains related information.

Issued in Fort Worth, Texas, on January 9, 2008.
Mark R. Schilling,
Acting Manager, Rotorcraft Directorate, Aircraft Certification Service.

[FR Doc. E8-1025 Filed 1-22-08; 8:45 am]

BILLING CODE 4910-13-P